DEPARTMENT OF ENERGY

Federal Energy Regulatory Commission

[Docket No. CP03-75-000]

Freeport LNG Development, L.P.; Notice of Application

April 7, 2003.

Take notice that on March 28, 2003, Freeport LNG Development, L.P., (Freeport LNG), 1200 Smith Street, Suite 600, Houston, Texas 77002, filed an application pursuant to section 3 of the Natural Gas Act (NGA) and parts 153 and 380 of the Commission's regulations for authorization to site, construct and operate a liquefied natural gas (LNG) receiving terminal and associated facilities in the Freeport, Texas area as a place of entry for the importation of LNG, all as more fully set forth in the application on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659.

Freeport LNG states that it proposes to construct the Freeport LNG Terminal in response to the growing demand for natural gas in Texas intrastate markets. Freeport LNG explains that the Freeport LNG Terminal will be comprised of an LNG receiving facility (including docking facilities and associated piping appurtenances); an LNG storage and vaporization facility (including two LNG storage tanks, vaporization units and associated piping and control equipment; and 9.38 miles of 36-inch diameter send out pipeline as well as metering facilities and associated appurtenances.

Freeport LNG states that the Freeport LNG Terminal will be located on Quintana Island, southeast of Freeport, Brazoria County, Texas. Freeport LNG avers that the Freeport LNG Terminal will not be used to provide jurisdictional interstate transportation service. Freeport LNG states that the facilities will instead be used to engage in commerce between the State of Texas and foreign nations. Freeport LNG maintains that since it does not intend to use the proposed facilities to import LNG on its own behalf, but rather, to provide terminal services to third parties, shippers utilizing the Freeport LNG facilities will be required to obtain authorization from the Department of Energy/Office of Fossil Energy for the import of natural gas.

Freeport LNG states that LNG will be transported through a send out pipeline from Quintana Island to the Stratton Ridge meter station, which will serve as the terminus of the Freeport LNG Termination. Freeport LNG states that interconnection facilities will be constructed between the Stratton Ridge meter station and certain intrastate systems with facilities in close proximity to the Stratton Ridge meter station in order to connect the report LNG terminal with Texas markets. Freeport LNG states that the interconnection facilities will be constructed by the respective intrastate pipelines. In addition, Freeport LNG states that the Freeport LNG Terminal is anticipated to be completed and placed in service in time to meet natural gas demand during the 2006-2007 winter heating season.

Any questions regarding this application should be directed to Lisa M Tonery, King & Spalding LLP, 1185 Avenue of the Americas, New York, New York 10036-4003, at (212) 556-2100, fax (212) 556-2222.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying the section 3 authorization will be issued.

Comment Date: April 29, 2003.

Magalie R. Salas,
Secretary.

[FR Doc. 03-9092 Filed 4-11-03; 8:45 am]

BILLING CODE 6717-01-P